ENVIRONMENTAL PROTECTION AGENCY

[EPA-HQ-OECA-2014-0064; FRL-9987-84-OEI]

Information Collection Request Submitted to OMB for Review and Approval; Comment Request; NESHAP for Steel Pickling, HCl Process Facilities and Hydrochloric Acid Regeneration Plants (Renewal)

AGENCY: Environmental Protection Agency (EPA).

ACTION: Notice.

SUMMARY: The Environmental Protection Agency (EPA) has submitted an information collection request (ICR), NESHAP for Steel Pickling, HCl Process Facilities and Hydrochloric Acid Regeneration Plants (EPA ICR Number 1821.09, OMB Control Number 2060-0419), to the Office of Management and Budget (OMB) for review and approval in accordance with the Paperwork Reduction Act. This is a proposed extension of the ICR, which is currently approved through January 31, 2019. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 1, 2019.

ADDRESSES: Submit your comments, referencing Docket ID Number EPA-HQ-OECA-2014-0064, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The National Emission Standards for Hazardous Air Pollutants (NESHAP) for Steel Pickling, HCl Process Facilities and Hydrochloric Acid Regeneration Plants (40 CFR part 63, subpart CCC) applies to all facilities that pickle steel using hydrochloric acid (HCl) or regenerate hydrochloric acid and are either major sources or part of a facility that is a major source. This regulation does not apply to any pickling line that uses an acid other than hydrochloric acid or an acid solution containing either less than 6 percent hydrochloric acid or at a temperature less than 100 °F. New facilities include those that commenced construction or reconstruction after the date of proposal.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart CCC.

Form numbers: None.

Respondents/affected entities: Steel pickling, hydrochloric acid process and regeneration facilities.

Respondent's obligation to respond: Mandatory.

Estimated number of respondents: 100 (total).

Frequency of response: Initially, occasionally and semiannually.

Total estimated burden: 35,000 hours (per year). Burden is defined at 5 CFR 1320.3(b).

Total estimated cost: $3,840,000 (per year), which includes $10,600 in annualized capital/startup and/or operation & maintenance costs.

Changes in the estimates: The decrease in labor hours from the most-recently approved ICR is the result of revising the assumption for the number of labor hours required to draft a revised operation and maintenance plan. This ICR assumes it takes less time to revise an existing operation and maintenance plan than it does to implement an initial plan.

Courtney Kerwin,
Director, Regulatory Support Division.

[FR Doc. 2019-03502 Filed 2-27-19; 8:45 am]

BILLING CODE 6560-50-P